DEPARTMENT OF THE INTERIOR

National Park Service

[NPS-WASO-NAGPRA-NPS0026040; PPWOCRADN0-PCU00RP14.R50000]

Notice of Intent To Repatriate Cultural Items: Thomas Gilcrease Institute of American History and Art, Tulsa, OK

AGENCY: National Park Service, Interior.

ACTION: Notice.

SUMMARY: The Thomas Gilcrease Institute of American History and Art (Gilcrease Museum), in consultation with the appropriate Indian Tribes or Native Hawaiian organizations, has determined that the cultural item listed in this notice meets the definition of unassociated funerary object. Lineal descendants or representatives of any Indian Tribe or Native Hawaiian organization not identified in this notice that wish to claim this cultural item should submit a written request to the Gilcrease Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Gilcrease Museum at the address in this notice by September 10, 2018.

ADDRESSES: Laura Bryant, Anthropology Collections Manager, Thomas Gilcrease Institute of American History and Art, 1400 North Gilcrease Museum Road, Tulsa, OK 74127, telephone (918) 596-2747, email laura-bryant@utulsa.edu.

SUPPLEMENTARY INFORMATION: Notice is here given in accordance with the Native American Graves Protection and Repatriation Act (NAGPRA), 25 U.S.C. 3005, of the intent to repatriate a cultural item under the control of the Gilcrease Museum, Tulsa, OK, that meets the definition of unassociated funerary object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In the early to mid-1900s, one cultural item was removed from a burial in Lee County, MS. A note with the item includes the name W. C. Wyman. Wyman's relationship to the burial site is unclear. The note also states that the item in question was found “with other relics, silver, brass” and that it had been “150 years since burial.” None of these other items is in Gilcrease Museum's possession. Through the Gilcrease Foundation, Thomas Gilcrease purchased the item from Dr. T. Hugh Young of Nashville, TN prior to 1962. In 1963 or 1964, Young donated the item to the Gilcrease Museum, which is owned by the City of Tulsa. The unassociated funerary object in question is a Carters Quarter style whelk shell gorget (accession number 90.456).

Though this shell gorget lacks a clear provenience, the details included in the note are consistent for Tupelo, MS, a well-known Chickasaw village site from the 18th century. The Carters Quarter style of gorget is often found in eastern Tennessee, in pre-18th century contexts. Consultation on Chickasaw customary practice indicated that this item was most likely manufactured in Tennessee and later when it had become an heirloom, that it was placed in the burial of a Chickasaw ancestor at Tupelo, Mississippi.

Determinations Made by the Gilcrease Museum

Officials of the Gilcrease Museum have determined that:

• Pursuant to 25 U.S.C. 3001(3)(B), the one cultural item described above is reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary object and The Chickasaw Nation.

Additional Requestors and Disposition

Lineal descendants or representatives of any Indian Tribe or Native Hawaiian organization not identified in this notice that wish to claim this cultural item should submit a written request with information in support of the claim to Laura Bryant, Gilcrease Museum, 1400 North Gilcrease Museum Road, Tulsa, OK 74127, telephone (918) 596-2747, email laura-bryant@utulsa.edu, by September 10, 2018. After that date, if no additional claimants have come forward, transfer of control of the unassociated funerary object to The Chickasaw Nation may proceed.

The Gilcrease Museum is responsible for notifying The Chickasaw Nation that this notice has been published.

Dated: July 13, 2018.
Melanie O'Brien,
Manager, National NAGPRA Program.

[FR Doc. 2018-17216 Filed 8-9-18; 8:45 am]

BILLING CODE 4312-52-P